DEPARTMENT OF AGRICULTURE

Natural Resources Conservation Service

[Docket No. NRCS-2014-0013]

Notice of Proposed Changes to Section I of the Iowa, Minnesota, North Dakota, and South Dakota State Technical Guides

AGENCY: Natural Resources Conservation Service (NRCS), USDA.

ACTION: Notice of availability of proposed changes to the NRCS State-specific Field Office Technical Guides for review and comment; extension of comment period.

SUMMARY: NRCS published a notice of proposed changes to section I of the State-specific technical guides for Iowa, Minnesota, North Dakota, and South Dakota on November 5, 2014, with a comment period ending February 3, 2015. This document extends the comment period.

DATES: The comment period for this notice (79 FR 65615, November 5, 2014) is hereby extended until February 20, 2015.

ADDRESSES: Comments should be submitted for each specific State, identified by Docket Number NRCS-2014-0013, using any of the following methods:

• Federal eRulemaking Portal: http://www.regulations.gov. Follow the instructions for submitting comments.

• Mail or hand-delivery: Submit State-specific comments to the appropriate State contact. The contact information for each State is shown below.

• NRCS will post all comments on http://www.regulations.gov. Personal information provided with comments will be posted. If your comment includes your address, phone number, email, or other personal identifying information, your comments, including personal information, may be available to the public. You may ask in your comment that your personal identifying information be withheld from public view, but this cannot be guaranteed.

FOR FURTHER INFORMATION CONTACT: The NRCS State Conservationist specific to your response.

• Iowa, Natural Resources Conservation Service, Jay Mar, State Conservationist, 210 Walnut Street, Room 693, Des Moines, Iowa 50309-2180; telephone: (515) 284-4769; email: jay.mar@ia.usda.gove; Iowa Web site: http://www.nrcs.usda.gov/wps/portal/nrcs/site/ia/home/

• Minnesota, Natural Resources Conservation Service, Walter Albarran, Acting State Conservationist, 375 Jackson Street, Suite 600, St. Paul, Minnesota 55101-1854; telephone: (651) 602-7854; email: walter.albarran@fl.usda.gov; Minnesota Web site: http://www.nrcs.usda.gov/wps/portal/nrcs/site/mn/home/

• North Dakota, Natural Resources Conservation Service, Mary Podoll, State Conservationist, 220 East Rosser Avenue, Room 278, Bismarck, North Dakota 58502-1458; telephone: (701) 530-2003; email: mary.podoll@nd.usda.gov, North Dakota Web site: http://www.nrcs.usda.gov/wps/portal/nrcs/site/nd/home/

• South Dakota, Natural Resources Conservation Service, Jeff Zimprich, State Conservationist, 200 Fourth Street SW., Room 203, Huron, South Dakota 57350; telephone: (605) 352-1200; email: jeff.zimprich@sd.usda.gov; South Dakota Web site: http://www.nrcs.usda.gov/wps/portal/nrcs/site/sd/home/

Electronic copies of the proposed revised offsite methods are available through http://www.regulations.gov by accessing Docket No. NRCS-2014-0013. Alternatively, copies can be downloaded or printed from the State-specific Web site listed above. Requests for paper versions or inquiries may be directed to the specific State Conservationist at the contact points listed above.

SUPPLEMENTARY INFORMATION: NRCS has received a number of questions about the proposed changes referred to in this notice, including several requests for additional time to complete detailed reviews and comments. This action extends the comment period to ensure that the public has sufficient time to review and comment on the proposed changes.

Signed this 28th day of January, 2015, in Washington, DC.
Jason A. Weller,
Chief, Natural Resources Conservation Service.

[FR Doc. 2015-02083 Filed 2-2-15; 8:45 am]

BILLING CODE 3410-16-P